SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before February 7, 2011.

ADDRESSES: Send all comments regarding whether this information collection is necessary for the proper performance of the function of the agency, whether the burden estimates are accurate, and if there are ways to minimize the estimated burden and enhance the quality of the collection, to Gail Hepler, Chief 7(a) Program Branch, Office of Financial Assistance, Small Business Administration, 409 3rd Street, 8th Floor, Washington, DC 20416.

FOR FURTHER INFORMATION CONTACT: Gail Hepler, Chief 7(a) Program Branch, Office of Financial Assistance, 202-205-7530, Curtis B. Rich, Management Analyst, 202-205-7030, curtis.rich@sba.gov.

SUPPLEMENTARY INFORMATION: This form is used to assist homeowners (20% or greater owners, corporate officers, or has guarantors) in preparing their total net worth by listing all of their assets and liabilities, including current income.

Title: “Personal Financial Statement.”

Description of Respondents: SBA participating Guaranty Agreement.

Form Number: 413.

Annual Responses: 91,937.

Annual Burden: 137,095.

Jacqueline White,
Chief, Administrative Information Branch.

[FR Doc. 2010-30835 Filed 12-7-10; 8:45 am]

BILLING CODE 8025-01-P